DEPARTMENT OF HEALTH AND HUMAN SERVICES

National Committee on Vital and Health Statistics: Meeting

Pursuant to the Federal Advisory Committee Act, the Department of Health and Human Services announces the following advisory committee meeting.

NAME: National Committee on Vital and Health Statistics (NCVHS).

JOINT MEETING: Subcommittee on Standards and Security and Workgroup on Computer-based Patient Records.xxx

TIME AND DATE: 9 a.m. to 5:30 p.m., January 31, 2000; 8:30 a.m. to 1:30 p.m., February 1, 2000.

PLACE: Room 705A, Hubert H. Humphrey Building, 200 Independence Avenue, SW, Washington, DC 20201.

STATUS: Open.

PURPOSE: The Subcommittee and Working Group will review the first draft of its report to the HHS Secretary on standards for patient medical records information as required by the Health Insurance Portability and Accountability Act of 1996 (HIPAA). The Subcommittee will review the recommendations contained in the report, specify proposed revisions in the draft report, and confirm the work plan for the completion of the report. On the second day, the Subcommittee will be updated on HHS activities related to the implementation of the administrative simplification provisions of HIPAA, will review its overall work plan for the year 2000, and review the first draft of the annual NCVHS report to Congress on implementation of the HIPAA administrative simplification provisions.

Notice: In the interest of security, the Department has instituted stringent procedures for entrance to the Hubert H. Humphrey building by non-government employees. Thus, persons without a government identification card will need to have the guard call for an escort to the meeting.

CONTACT PERSON FOR MORE INFORMATION: Substantive program information as well as summaries of meetings and a roster of committee members may be obtained from J. Michael Fitzmaurice, Ph.D., Senior Science Advisor for Information Technology, Agency for Health Care Research and Quality, 2101 East Jefferson Street, #600, Rockville, MD 20852, phone: (301) 594-3938; or Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website, http://www.ncvhs.hhs.gov/ where an agenda for the meeting will be posted when available.

Dated: January 13, 2000.
James Scanlon,
Director, Division of Data Policy, Office of the Assistant Secretary for Planning and Evaluation.

[FR Doc. 00-1460 File 1-20-00; 8:45 am]

BILLING CODE 4151-04-M